DEPARTMENT OF HEALTH AND HUMAN SERVICES

Food and Drug Administration

[Docket No. FDA-2010-N-0001]

Endocrinologic and Metabolic Drugs Advisory Committee; Cancellation

AGENCY: Food and Drug Administration, HHS.

ACTION: Notice.

SUMMARY: The meeting of the Endocrinologic and Metabolic Drugs Advisory Committee scheduled for February 24, 2010, is cancelled. This meeting was announced in the Federal Register of January 19, 2010 (75 FR 2875). This meeting has been cancelled due to unexpected delays in the preparation of materials for the meeting. The agency will reschedule this meeting and announce a future meeting date in the Federal Register.

FOR FURTHER INFORMATION CONTACT: Paul Tran, Center for Drug Evaluation and Research (HFD-21), Food and Drug Administration, 5600 Fishers Lane (for express delivery, 5630 Fishers Lane, rm. 1093), Rockville, MD 20857, 301-827-7001, FAX: 301-827-6776, e-mail: paul.tran@fda.hhs.gov, or FDA Advisory Committee Information Line, 1-800-741-8138 (301-443-0572 in the Washington, DC area), code 3014512536. Please call the Information Line for up-to-date information on this meeting.

Dated: January 26, 2010.
Jill Hartzler Warner,
Acting Associate Commissioner for Special Medical Programs.

[FR Doc. 2010-2096 Filed 2-1-10; 8:45 am]

BILLING CODE 4160-01-S